DEPARTMENT OF TRANSPORTATION

Federal Aviation Administration

14 CFR Part 97

[Docket No. 30962; Amdt. No. 3594]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 11, 2014. The compliance date for each SIAP, associated Takeoff Minimums, and ODP is specified in the amendatory provisions.

The incorporation by reference of certain publications listed in the regulations is approved by the Director of the Federal Register as of June 11, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK. 73169 (Mail Address: P.O. Box 25082 Oklahoma City, OK. 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDCP-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on May 23, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
26-Jun-14 | ND | Oakes | Oakes Muni | 4/0002 | 05/07/14 | RNAV (GPS) RWY 30, Orig.
26-Jun-14 | NE | Superior | Superior Muni | 4/0014 | 05/09/14 | RNAV (GPS) RWY 14, Orig.
26-Jun-14 | WA | Tacoma | Tacoma Narrows | 4/0024 | 05/13/14 | NDB RWY 35, Amdt 8.
26-Jun-14 | WA | Tacoma | Tacoma Narrows | 4/0025 | 05/13/14 | RNAV (GPS) RWY 35, Orig.
26-Jun-14 | UT | Tooele | Bolinder Field-Tooele Valley | 4/0030 | 05/12/14 | ILS OR LOC/DME RWY 17, Amdt 2.
26-Jun-14 | UT | Tooele | Bolinder Field-Tooele Valley | 4/0039 | 05/12/14 | RNAV (GPS) RWY 17, Amdt 3.
26-Jun-14 | LA | Ruston | Ruston Rgnl | 4/0046 | 05/07/14 | RNAV (GPS) RWY 36, Orig.
26-Jun-14 | DC | Washington | Washington Dulles Intl | 4/0245 | 05/13/14 | VOR/DME RWY 12, Amdt 9A.
26-Jun-14 | DC | Washington | Washington Dulles Intl | 4/0246 | 05/13/14 | RNAV (RNP) Z RWY 1C, Orig-F.
26-Jun-14 | SC | Allendale | Allendale County | 4/2224 | 05/09/14 | RNAV (GPS) RWY 35, Orig.
26-Jun-14 | SC | Allendale | Allendale County | 4/2225 | 05/09/14 | RNAV (GPS) RWY 17, Orig.
26-Jun-14 | AL | Talladega | Talladega Muni | 4/2231 | 05/09/14 | RNAV (GPS) RWY 4 Amdt, 1B.
26-Jun-14 | AL | Talladega | Talladega Muni | 4/2233 | 05/09/14 | VOR/DME RWY 4, Amdt 6.
26-Jun-14 | AL | Talladega | Talladega Muni | 4/2238 | 05/09/14 | ILS OR LOC/DME RWY 4, Orig-A.
26-Jun-14 | AL | Talladega | Talladega Muni | 4/2239 | 05/09/14 | RNAV (GPS) RWY 22, Amdt 1A.
26-Jun-14 | MS | Tunica | Tunica Muni | 4/2243 | 05/12/14 | RNAV (GPS) RWY 35, Amdt 2.
26-Jun-14 | MA | Worcester | Worcester Rgnl | 4/2276 | 05/12/14 | ILS OR LOC RWY 29, Amdt 4A.
26-Jun-14 | MA | Worcester | Worcester Rgnl | 4/2277 | 05/12/14 | VOR/DME RWY 33, Amdt 1A.
26-Jun-14 | MA | Worcester | Worcester Rgnl | 4/2280 | 05/12/14 | ILS OR LOC RWY 11, Amdt 23A.
26-Jun-14 | FL | Stuart | Witham Field | 4/2282 | 05/07/14 | RNAV (GPS) RWY 12, Amdt 1.
26-Jun-14 | MA | Worcester | Worcester Rgnl | 4/2285 | 05/12/14 | RNAV (GPS) RWY 29, Amdt 1.
26-Jun-14 | MA | Worcester | Worcester Rgnl | 4/2286 | 05/12/14 | RNAV (GPS) RWY 11, Amdt 1.
26-Jun-14 | FL | Stuart | Witham Field | 4/2287 | 05/07/14 | RNAV (GPS) RWY 30, Amdt 1.
26-Jun-14 | TN | Gallatin | Sumner County Rgnl | 4/2344 | 05/09/14 | RNAV (GPS) RWY 35, Amdt 1.
26-Jun-14 | TN | Gallatin | Sumner County Rgnl | 4/2346 | 05/09/14 | RNAV (GPS) RWY 17, Amdt 1.
26-Jun-14 | MS | Madison | Bruce Campbell Field | 4/2362 | 05/07/14 | RNAV (GPS) RWY 17, Amdt 1.
26-Jun-14 | MS | Madison | Bruce Campbell Field | 4/2363 | 05/07/14 | VOR/DME RWY 17, Orig-A.
26-Jun-14 | CA | Concord | Buchanan Field | 4/2364 | 05/14/14 | RNAV (GPS) Z RWY 19R, Orig-A.
26-Jun-14 | CA | Concord | Buchanan Field | 4/2371 | 05/14/14 | LDA RWY 19R, Amdt 7C.
26-Jun-14 | CA | Concord | Buchanan Field | 4/2372 | 05/14/14 | RNAV (GPS) Y RWY 19R, Amdt 1.
26-Jun-14 | ME | Brunswick | Brunswick Executive | 4/2413 | 05/09/14 | RNAV (GPS) RWY 19L, Amdt 1.
26-Jun-14 | CA | Sacramento | Sacramento Intl | 4/2414 | 05/06/14 | ILS RWY 16R (SA CAT I), Amdt 15.
26-Jun-14 | CA | Sacramento | Sacramento Intl | 4/2416 | 05/06/14 | ILS RWY 16R (CAT II & III), Amdt 15.
26-Jun-14 | CA | Sacramento | Sacramento Intl | 4/2419 | 05/06/14 | RNAV (RNP) Z RWY 16R, Orig.
26-Jun-14 | CA | Sacramento | Sacramento Intl | 4/2420 | 05/06/14 | RNAV (GPS) Y RWY 16R, Amdt 1.
26-Jun-14 | CA | Sacramento | Sacramento Intl | 4/2422 | 05/06/14 | RNAV (GPS) Y RWY 34L, Amdt 1A.
26-Jun-14 | CA | Sacramento | Sacramento Intl | 4/2423 | 05/06/14 | RNAV (RNP) Z RWY 34L, Orig.
26-Jun-14 | CA | Sacramento | Sacramento Intl | 4/2424 | 05/06/14 | ILS OR LOC RWY 16R, Amdt 15.
26-Jun-14 | CA | Sacramento | Sacramento Intl | 4/2427 | 05/06/14 | RNAV (GPS) Y RWY 34R, Orig-D.
26-Jun-14 | CA | Sacramento | Sacramento Intl | 4/2429 | 05/06/14 | RNAV (RNP) Z RWY 16L, Orig-A.
26-Jun-14 | MD | Ridgely | Ridgely Airpark | 4/2438 | 05/07/14 | RNAV (GPS) RWY 12, Orig-A.
26-Jun-14 | AZ | Lake Havasu City | Lake Havasu City | 4/2440 | 05/12/14 | RNAV (GPS) RWY 14, Orig.
26-Jun-14 | AL | Fayette | Richard Arthur Field | 4/2442 | 05/07/14 | RNAV (GPS) RWY 18, Amdt 1A.
26-Jun-14 | WI | Antigo | Langlade County | 4/2447 | 05/12/14 | RNAV (GPS) RWY 27, Orig.
26-Jun-14 | CA | Oakdale | Oakdale | 4/2461 | 05/12/14 | RNAV (GPS) RWY 28, Amdt 1.
26-Jun-14 | CA | Oakdale | Oakdale | 4/2462 | 05/12/14 | RNAV (GPS) RWY 10, Amdt 1.
26-Jun-14 | KY | Hartford | Ohio County | 4/2463 | 05/07/14 | RNAV (GPS) RWY 21, Orig-A.
26-Jun-14 | KY | Hartford | Ohio County | 4/2464 | 05/07/14 | RNAV (GPS) RWY 3, Orig-A.
26-Jun-14 | FL | Okeechobee | Okeechobee County | 4/2465 | 05/07/14 | RNAV (GPS) RWY 14, Amdt 1.
26-Jun-14 | MT | Forsyth | Tillitt Field | 4/2468 | 05/12/14 | NDB RWY 26, Amdt 3.
26-Jun-14 | MT | Forsyth | Tillitt Field | 4/2471 | 05/12/14 | RNAV (GPS) RWY 26, Orig-A.
26-Jun-14 | FL | Live Oak | Suwannee County | 4/2473 | 05/07/14 | RNAV (GPS) RWY 7, Orig-A.
26-Jun-14 | SD | Gregory | Gregory Muni—Flynn Fld | 4/2513 | 05/09/14 | RNAV (GPS) RWY 13, Orig.
26-Jun-14 | CA | San Martin | South County Arpt Of Santa Clara County | 4/2563 | 05/12/14 | RNAV (GPS) RWY 32, Orig.
26-Jun-14 | MO | Branson | Branson | 4/2612 | 05/14/14 | RNAV (GPS) RWY 32, Orig.
26-Jun-14 | PA | Grove City | Grove City | 4/2628 | 05/09/14 | RNAV (GPS) RWY 10, Amdt 1.
26-Jun-14 | PA | Grove City | Grove City | 4/2629 | 05/09/14 | RNAV (GPS) RWY 28, Amdt 1.
26-Jun-14 | MI | Holland | West Michigan Rgnl | 4/2641 | 05/07/14 | ILS OR LOC/DME RWY 26, Amdt 2A.
26-Jun-14 | MI | Holland | West Michigan Rgnl | 4/2642 | 05/07/14 | RNAV (GPS) RWY 8, Amdt 2A.
26-Jun-14 | IN | Monticello | White County | 4/2644 | 05/07/14 | RNAV (GPS) RWY 18, Orig.
26-Jun-14 | IN | Monticello | White County | 4/2645 | 05/07/14 | RNAV (GPS) RWY 36, Orig.
26-Jun-14 | OK | Shawnee | Shawnee Rgnl | 4/2738 | 05/14/14 | RNAV (GPS) RWY 35, Orig-A.
26-Jun-14 | IA | Sac City | Sac City Muni | 4/2825 | 05/07/14 | NDB RWY 36, Amdt 4.
26-Jun-14 | IA | Sac City | Sac City Muni | 4/2826 | 05/07/14 | RNAV (GPS) RWY 36, Amdt 1.
26-Jun-14 | KS | Clay Center | Clay Center Muni | 4/2893 | 05/07/14 | NDB RWY 35, Amdt 2.
26-Jun-14 | KS | Clay Center | Clay Center Muni | 4/2894 | 05/07/14 | RNAV (GPS) RWY 35, Orig.
26-Jun-14 | KS | Concordia | Blosser Muni | 4/2900 | 05/07/14 | RNAV (GPS) RWY 17, Orig.
26-Jun-14 | KS | El Dorado | El Dorado/Captain Jack Thomas Memorial | 4/2922 | 05/07/14 | RNAV (GPS) RWY 15, Amdt 1.
26-Jun-14 | KS | Hill City | Hill City Muni | 4/2930 | 05/07/14 | RNAV (GPS) RWY 36, Amdt 1.
26-Jun-14 | OK | Mc Alester | Mc Alester Rgnl | 4/2960 | 05/19/14 | VOR/DME RWY 20, Amdt 2D.
26-Jun-14 | WI | Sparta | Sparta/Fort Mc Coy | 4/3148 | 05/12/14 | NDB RWY 29, Amdt 4.
26-Jun-14 | WI | Sparta | Sparta/Fort Mc Coy | 4/3151 | 05/12/14 | RNAV (GPS) RWY 29, Amdt 1.
26-Jun-14 | MN | Fosston | Fosston Muni | 4/3347 | 05/07/14 | NDB RWY 34, Amdt 4.
26-Jun-14 | MN | Fosston | Fosston Muni | 4/3359 | 05/07/14 | RNAV (GPS) RWY 34, Orig-A.
26-Jun-14 | WY | Saratoga | Shively Field | 4/3372 | 05/13/14 | RNAV (GPS) B, Orig.
26-Jun-14 | WY | Saratoga | Shively Field | 4/3375 | 05/13/14 | NDB A, Amdt 1.
26-Jun-14 | WY | Saratoga | Shively Field | 4/3376 | 05/13/14 | RNAV (GPS) RWY 5, Orig.
26-Jun-14 | IA | Forest City | Forest City Muni | 4/3382 | 05/07/14 | RNAV (GPS) RWY 15, Orig.
26-Jun-14 | IA | Forest City | Forest City Muni | 4/3383 | 05/07/14 | NDB RWY 33, Amdt 2.
26-Jun-14 | MT | Plentywood | Sher-Wood | 4/3387 | 05/12/14 | RNAV (GPS) RWY 12, Orig.
26-Jun-14 | MT | Plentywood | Sher-Wood | 4/3389 | 05/12/14 | RNAV (GPS) RWY 30, Orig.
26-Jun-14 | CA | Sacramento | Sacramento Intl | 4/3503 | 05/06/14 | ILS OR LOC RWY 16L, Amdt 2A.
26-Jun-14 | GA | Dublin | W H 'Bud' Barron | 4/3519 | 05/07/14 | RNAV (GPS) RWY 2, Orig-A.
26-Jun-14 | MT | Poplar | Poplar Muni | 4/3520 | 05/12/14 | RNAV (GPS) RWY 27, Amdt 1.
26-Jun-14 | GA | Dublin | W H 'Bud' Barron | 4/3525 | 05/07/14 | ILS OR LOC RWY 2, Amdt 2B.
26-Jun-14 | MT | Poplar | Poplar Muni | 4/3529 | 05/12/14 | RNAV (GPS) RWY 9, Orig.
26-Jun-14 | MO | Branson | Branson | 4/3672 | 05/14/14 | RNAV (GPS) RWY 14, Orig.
26-Jun-14 | IA | Pocahontas | Pocahontas Muni | 4/3765 | 05/14/14 | NDB RWY 12, Amdt 5A.
26-Jun-14 | IA | Pocahontas | Pocahontas Muni | 4/3779 | 05/14/14 | RNAV (GPS) RWY 12, Orig-A.
26-Jun-14 | CA | Sacramento | Sacramento Intl | 4/4528 | 05/06/14 | RNAV (RNP) Z RWY 34R, Orig-A.
26-Jun-14 | CA | Sacramento | Sacramento Intl | 4/4529 | 05/06/14 | RNAV (GPS) Y RWY 16L, Amdt 1A.
26-Jun-14 | NE | Red Cloud | Red Cloud Muni | 4/4647 | 05/07/14 | RNAV (GPS) RWY 16, Orig.
26-Jun-14 | TX | Plains | Yoakum County | 4/4656 | 05/09/14 | RNAV (GPS) RWY 21, Amdt 1.
26-Jun-14 | IN | Winchester | Randolph County | 4/4666 | 05/07/14 | RNAV (GPS) RWY 8, Orig.
26-Jun-14 | OR | Portland | Portland Intl | 4/4723 | 05/06/14 | RNAV (GPS) Y RWY 10L, Amdt 2.
26-Jun-14 | OR | Portland | Portland Intl | 4/4727 | 05/06/14 | ILS OR LOC RWY 10L, Amdt 4.
26-Jun-14 | OR | Portland | Portland Intl | 4/4728 | 05/06/14 | RNAV (RNP) Z RWY 28L, Orig.
26-Jun-14 | OR | Portland | Portland Intl | 4/4729 | 05/06/14 | LOC/DME RWY 21, Amdt 8B.
26-Jun-14 | OR | Portland | Portland Intl | 4/4730 | 05/06/14 | RNAV (RNP) Z RWY 10L, Amdt 1.
26-Jun-14 | OR | Portland | Portland Intl | 4/4731 | 05/06/14 | RNAV (RNP) Z RWY 10R, Orig-A.
26-Jun-14 | OR | Portland | Portland Intl | 4/4732 | 05/06/14 | RNAV (GPS) Y RWY 10R, Amdt 2.
26-Jun-14 | OR | Portland | Portland Intl | 4/4733 | 05/06/14 | ILS OR LOC RWY 28L, Amdt 3.
26-Jun-14 | OR | Portland | Portland Intl | 4/4734 | 05/06/14 | RNAV (RNP) Y RWY 28L, Amdt 1.
26-Jun-14 | OR | Portland | Portland Intl | 4/4735 | 05/06/14 | RNAV (GPS) X RWY 28L, Amdt 2.
26-Jun-14 | OR | Portland | Portland Intl | 4/4736 | 05/06/14 | RNAV (GPS) X RWY 28R, Amdt 2.
26-Jun-14 | OR | Portland | Portland Intl | 4/4737 | 05/06/14 | ILS OR LOC RWY 28R, Amdt 15.
26-Jun-14 | OR | Portland | Portland Intl | 4/4738 | 05/06/14 | RNAV RNP Y RWY 28R, Amdt 1.
26-Jun-14 | OR | Portland | Portland Intl | 4/4739 | 05/06/14 | ILS OR LOC RWY 10R, ILS RWY 10R (SA CAT I), ILS RWY 10R (CAT II & III), Amdt 34B.
26-Jun-14 | KY | Campbellsville | Taylor County | 4/5057 | 05/13/14 | NDB RWY 23, Amdt 4.
26-Jun-14 | KY | Campbellsville | Taylor County | 4/5058 | 05/13/14 | RNAV (GPS) RWY 5, Orig-A.
26-Jun-14 | KY | Campbellsville | Taylor County | 4/5059 | 05/13/14 | RNAV (GPS) RWY 23, Orig.
26-Jun-14 | TX | Gruver | Gruver Muni | 4/5203 | 05/12/14 | RNAV (GPS) RWY 2, Orig.
26-Jun-14 | OH | Cadiz | Harrison County | 4/5211 | 05/09/14 | RNAV (GPS) RWY 13, Orig.
26-Jun-14 | MS | Kosciusko | Kosciusko-Attala County | 4/5245 | 05/07/14 | RNAV (GPS) RWY 32, Orig-A.
26-Jun-14 | MS | Kosciusko | Kosciusko-Attala County | 4/5248 | 05/07/14 | RNAV (GPS) RWY 14, Orig-A.
26-Jun-14 | ID | Lewiston | Lewiston-Nez Perce County | 4/5403 | 05/13/14 | RNAV (GPS) Y RWY 12, Amdt 2A.
26-Jun-14 | ID | Lewiston | Lewiston-Nez Perce County | 4/5404 | 05/13/14 | RNAV (GPS) Y RWY 8, Amdt 2.
26-Jun-14 | ID | Lewiston | Lewiston-Nez Perce County | 4/5405 | 05/13/14 | ILS RWY 26, Amdt 13B.
26-Jun-14 | NE | Lincoln | Lincoln | 4/5413 | 05/07/14 | VOR RWY 18, Amdt 13.
26-Jun-14 | NE | Lincoln | Lincoln | 4/5414 | 05/07/14 | ILS OR LOC RWY 18, Amdt 7.
26-Jun-14 | NE | Lincoln | Lincoln | 4/5425 | 05/07/14 | ILS OR LOC RWY 36, Amdt 11G.
26-Jun-14 | WA | Toledo | Ed Carlson Memorial Field—South Lewis Co | 4/6517 | 05/14/14 | RNAV (GPS) RWY 24, Orig-A.
26-Jun-14 | CA | Bishop | Eastern Sierra Rgnl | 4/6885 | 05/14/14 | RNAV (GPS) Z RWY 12, Orig-A.
26-Jun-14 | TN | Springfield | Springfield Robertson County | 4/7011 | 05/09/14 | RNAV (GPS) RWY 4, Amdt 1.
26-Jun-14 | TN | Springfield | Springfield Robertson County | 4/7044 | 05/09/14 | LOC RWY 4, Amdt 3.
26-Jun-14 | TN | Springfield | Springfield Robertson County | 4/7046 | 05/09/14 | RNAV (GPS) RWY 22, Amdt 1.
26-Jun-14 | TX | Hamilton | Hamilton Muni | 4/7343 | 05/12/14 | RNAV (GPS) RWY 36, Amdt 1.
26-Jun-14 | TX | Hamilton | Hamilton Muni | 4/7344 | 05/12/14 | RNAV (GPS) RWY 18, Amdt 1.
26-Jun-14 | OH | Lancaster | Fairfield County | 4/7346 | 05/09/14 | RNAV (GPS) RWY 28, Amdt 1.
26-Jun-14 | MI | Sturgis | Kirsch Muni | 4/7416 | 05/19/14 | Takeoff Minimums and Obstacle DP, Amdt 3.
26-Jun-14 | NE | Imperial | Imperial Muni | 4/7492 | 05/14/14 | RNAV (GPS) RWY 31, Amdt 1.
26-Jun-14 | AZ | St Johns | St Johns Industrial Air Park | 4/7914 | 05/13/14 | RNAV (GPS) RWY 14, Amdt 1.
26-Jun-14 | CA | San Francisco | San Francisco Intl | 4/8150 | 05/14/14 | RNAV (GPS) RWY 19R, Amdt 1.
26-Jun-14 | CA | San Francisco | San Francisco Intl | 4/8151 | 05/14/14 | RNAV (GPS) RWY 19L, Amdt 2A.
26-Jun-14 | CA | San Francisco | San Francisco Intl | 4/8153 | 05/14/14 | VOR RWY 19L, Amdt 10.
26-Jun-14 | CA | San Francisco | San Francisco Intl | 4/8154 | 05/14/14 | ILS OR LOC RWY 28L, Amdt 24B.
26-Jun-14 | CA | San Francisco | San Francisco Intl | 4/8157 | 05/14/14 | RNAV (RNP) Y RWY 28R, Amdt 2.
26-Jun-14 | CA | San Francisco | San Francisco Intl | 4/8160 | 05/14/14 | ILS OR LOC RWY 28R, ILS RWY 28R (SA CAT I), ILS RWY 28R (CAT II & III), Amdt 12A.
26-Jun-14 | CA | San Francisco | San Francisco Intl | 4/8161 | 05/14/14 | RNAV (GPS) Z RWY 28R, Amdt 4.
26-Jun-14 | CA | San Francisco | San Francisco Intl | 4/8163 | 05/14/14 | LDA/DME RWY 28, Amdt 2.
26-Jun-14 | CA | San Francisco | San Francisco Intl | 4/8164 | 05/14/14 | LDA PRM RWY 28R, (SIMULTANEOUS CLOSE PARALLEL), Amdt 2.
26-Jun-14 | CA | San Francisco | San Francisco Intl | 4/8165 | 05/14/14 | ILS OR LOC RWY 19L, Amdt 20A.
26-Jun-14 | CA | San Francisco | San Francisco Intl | 4/8168 | 05/14/14 | ILS RWY 28L (SA CAT II), Amdt 24B.
26-Jun-14 | CA | San Francisco | San Francisco Intl | 4/8169 | 05/14/14 | RNAV (GPS) RWY 28L, Amdt 4.
26-Jun-14 | CA | San Francisco | San Francisco Intl | 4/8170 | 05/14/14 | RNAV (GPS) PRM RWY 28L (SIMULTANEOUS CLOSE PARALLEL), Amdt 1.
26-Jun-14 | CA | San Francisco | San Francisco Intl | 4/8171 | 05/14/14 | RNAV (GPS) RWY 10L, Amdt 2.
26-Jun-14 | CA | San Francisco | San Francisco Intl | 4/8172 | 05/14/14 | RNAV (RNP) Z RWY 10R, Amdt 2.
26-Jun-14 | CA | San Francisco | San Francisco Intl | 4/8173 | 05/14/14 | ILS PRM RWY 28L (SIMULTANEOUS CLOSE PARALLEL), Amdt 3.
26-Jun-14 | CA | San Francisco | San Francisco Intl | 4/8174 | 05/14/14 | RNAV (GPS) X RWY 28R, Amdt 1.
26-Jun-14 | CA | San Francisco | San Francisco Intl | 4/8175 | 05/14/14 | RNAV (GPS) PRM X RWY 28R (SIMULTANEOUS CLOSE PARALLEL), Amdt 1.
26-Jun-14 | CA | San Francisco | San Francisco Intl | 4/8179 | 05/14/14 | RNAV (GPS) Y RWY 10R, Amdt 2.
26-Jun-14 | OH | Ravenna | Portage County | 4/8212 | 05/19/14 | RNAV (GPS) RWY 9, Orig.
26-Jun-14 | LA | Abbeville | Abbeville Chris Crusta Memorial | 4/8555 | 05/14/14 | LOC RWY 16, Orig.
26-Jun-14 | LA | Abbeville | Abbeville Chris Crusta Memorial | 4/8556 | 05/14/14 | RNAV (GPS) RWY 34, Amdt 1.
26-Jun-14 | LA | Abbeville | Abbeville Chris Crusta Memorial | 4/8559 | 05/14/14 | RNAV (GPS) RWY 16, Amdt 1.
26-Jun-14 | LA | Abbeville | Abbeville Chris Crusta Memorial | 4/8561 | 05/14/14 | VOR/DME B, Amdt 3A.
26-Jun-14 | LA | Abbeville | Abbeville Chris Crusta Memorial | 4/8562 | 05/14/14 | VOR/DME A, Amdt 2A.
26-Jun-14 | KY | Ashland | Ashland Rgnl | 4/8717 | 05/12/14 | RNAV (GPS) RWY 28, Amdt 1.
26-Jun-14 | FL | Wauchula | Wauchula Muni | 4/8718 | 05/07/14 | RNAV (GPS) RWY 18, Amdt 1.
26-Jun-14 | FL | Wauchula | Wauchula Muni | 4/8719 | 05/07/14 | RNAV (GPS) RWY 36, Amdt 1.
26-Jun-14 | KY | Ashland | Ashland Rgnl | 4/8720 | 05/12/14 | RNAV (GPS) RWY 10, Amdt 1.
26-Jun-14 | NC | Wilmington | Wilmington Intl | 4/8788 | 05/09/14 | ILS Y OR LOC/DME RWY 6, Amdt 2.
26-Jun-14 | NC | Wilmington | Wilmington Intl | 4/8789 | 05/09/14 | ILS Z RWY 6, Orig.
26-Jun-14 | NC | Wilmington | Wilmington Intl | 4/8790 | 05/09/14 | ILS Z RWY 24, Orig.
26-Jun-14 | NC | Wilmington | Wilmington Intl | 4/8791 | 05/09/14 | ILS Y OR LOC RWY 35, Amdt 22.
26-Jun-14 | NC | Wilmington | Wilmington Intl | 4/8792 | 05/09/14 | RNAV (GPS) RWY 24, Amdt 2.
26-Jun-14 | NC | Wilmington | Wilmington Intl | 4/8793 | 05/09/14 | RNAV (GPS) RWY 17, Amdt 3.
26-Jun-14 | NC | Wilmington | Wilmington Intl | 4/8794 | 05/09/14 | ILS Z RWY 35, Orig.
26-Jun-14 | NC | Wilmington | Wilmington Intl | 4/8795 | 05/09/14 | ILS Y OR LOC RWY 24, Amdt 1.
26-Jun-14 | NC | Wilmington | Wilmington Intl | 4/8796 | 05/09/14 | RNAV (GPS) RWY 35, Amdt 3.
26-Jun-14 | NC | Wilmington | Wilmington Intl | 4/8797 | 05/09/14 | RNAV (GPS) RWY 6, Amdt 3.
26-Jun-14 | TX | Mason | Mason County | 4/9062 | 05/09/14 | RNAV (GPS) RWY 18, Orig.
26-Jun-14 | TX | Giddings | Giddings-Lee County | 4/9166 | 05/14/14 | VOR/DME A, Amdt 3.
26-Jun-14 | TX | Giddings | Giddings-Lee County | 4/9168 | 05/14/14 | RNAV (GPS) RWY 35, Orig.
26-Jun-14 | TX | Giddings | Giddings-Lee County | 4/9169 | 05/14/14 | RNAV (GPS) RWY 17, Orig.
26-Jun-14 | ME | Old Town | Dewitt Fld,Old Town Muni | 4/9182 | 05/14/14 | RNAV (GPS) RWY 30, Orig.
26-Jun-14 | ME | Old Town | Dewitt Fld,Old Town Muni | 4/9183 | 05/14/14 | RNAV (GPS) RWY 12, Orig.
26-Jun-14 | ME | Old Town | Dewitt Fld,Old Town Muni | 4/9184 | 05/14/14 | RNAV (GPS) RWY 22, Orig.
26-Jun-14 | ME | Old Town | Dewitt Fld,Old Town Muni | 4/9185 | 05/14/14 | VOR/DME RWY 22, Amdt 5.
26-Jun-14 | MA | Stow | Minute Man Air Field | 4/9188 | 05/14/14 | RNAV (GPS) RWY 21, Orig.
26-Jun-14 | TX | Corpus Christi | Corpus Christi Intl | 4/9624 | 05/14/14 | ILS OR LOC RWY 13, Amdt 27A.
26-Jun-14 | IL | Mount Carmel | Mount Carmel Muni | 4/9836 | 05/14/14 | RNAV (GPS) RWY 4, Orig.
26-Jun-14 | MO | Charleston | Mississippi County | 4/9896 | 05/07/14 | RNAV (GPS) RWY 18, Orig.
26-Jun-14 | MO | Charleston | Mississippi County | 4/9898 | 05/07/14 | RNAV (GPS) RWY 36, Orig.
26-Jun-14 | MO | Charleston | Mississippi County | 4/9900 | 05/07/14 | NDB RWY 36, Amdt 4.
26-Jun-14 | ND | Kindred | Hamry Field | 4/9901 | 05/08/14 | RNAV (GPS) RWY 11, Amdt 1.
26-Jun-14 | NY | Montauk | Montauk | 4/9905 | 05/09/14 | RNAV (GPS) RWY 6, Orig.
26-Jun-14 | WI | Medford | Taylor County | 4/9925 | 05/12/14 | RNAV (GPS) RWY 16, Orig.
26-Jun-14 | ND | Tioga | Tioga Muni | 4/9926 | 05/07/14 | RNAV (GPS) RWY 30, Amdt 1.
26-Jun-14 | TX | Taylor | Taylor Muni | 4/9928 | 05/13/14 | VOR/DME RWY 17, Amdt 1A.
26-Jun-14 | CO | Telluride | Telluride Rgnl | 4/9932 | 05/12/14 | LOC/DME RWY 9, Amdt 2.
26-Jun-14 | CO | Telluride | Telluride Rgnl | 4/9933 | 05/12/14 | RNAV (GPS) RWY 9, Orig-A.
26-Jun-14 | KS | Paola | Miami County | 4/9979 | 05/07/14 | RNAV (GPS) RWY 21, Amdt 1.
26-Jun-14 | WV | Parkersburg | Mid-Ohio Valley Rgnl | 4/9982 | 05/09/14 | VOR RWY 21, Amdt 17.
26-Jun-14 | WV | Parkersburg | Mid-Ohio Valley Rgnl | 4/9983 | 05/09/14 | RNAV (GPS) RWY 21, Amdt 2

[FR Doc. 2014-13391 Filed 6-10-14; 8:45 am]

BILLING CODE 4910-13-P